DEPARTMENT OF LABOR

Employment and Training Administration

[TA-W-50,504]

Hamilton Sundstrand-Denver, Mechanical Operations Division, Denver, CO; Notice of Termination of Investigation

Pursuant to section 221 of the Trade Act of 1974, as amended, an investigation was initiated on January 7, 2003 in response to a petition filed by a company official on behalf of workers at Hamilton Sundstrand-Denver, Mechanical Operations Division, Denver, Colorado.

The petitioner has requested that the petition be withdrawn. Consequently, further investigation would serve no purpose and the investigation has been terminated.

Signed at Washington, DC, this 11th day of February, 2003.
Linda G. Poole,
Certifying Officer, Division of Trade Adjustment Assistance.

[FR Doc. 03-5557 Filed 3-7-03; 8:45 am]

BILLING CODE 4510-30-P